NATIONAL CREDIT UNION ADMINISTRATION

[NCUA-2025-0543]

The NCUA Staff Draft 2026-2027 Budget

AGENCY: National Credit Union Administration (NCUA).

ACTION: Notice.

SUMMARY: The NCUA's staff draft “detailed business-type budget” for 2026 and 2027 was made available for public review in the Federal Register as required by federal statute on September 29, 2025 as docket number NCUA-2025-0543. The NCUA will hold an in-person budget hearing to discuss its staff draft budget. This notice is being issued to let the public know the hearing has been rescheduled to November 5, 2025 at 1 p.m. Eastern.

DATES: The hearing date included in the notice published on October 21, 2025 (90 FR 48439) is changed to November 5, 2025, at 1 p.m. Eastern.

FOR FURTHER INFORMATION CONTACT: Melissa L. Lowden, Acting Chief Financial Officer, National Credit Union Administration, 1775 Duke Street, Alexandria, Virginia 22314-3428, or telephone: (703) 518-1182.

SUPPLEMENTARY INFORMATION: As noted in documents published on September 29, 2025 (90 FR 4664) and October 21, 2025 (90 FR 48439), the NCUA will hold a public hearing on its staff draft budget for 2026-2027. Interested parties are referred to those notices for further background and deadlines for providing input. This notice is being issued to reschedule the in-person public hearing from November 6, 2025 at 1 p.m. Eastern to November 5, 2025 at 1 p.m. Eastern. All other details and deadlines associated with the staff draft budget are unchanged.

By the National Credit Union Administration Board on October 22, 2025.
Melane Conyers-Ausbrooks,
Secretary of the Board.

[FR Doc. 2025-19659 Filed 10-24-25; 8:45 am]

BILLING CODE 7535-01-P